DEPARTMENT OF TRANSPORTATION

Bureau of Transportation Statistics

[Docket No. BTS-2000-6845]

Request for OMB Clearance of an Information Collection; Customer Satisfaction Surveys

AGENCY: Bureau of Transportation Statistics, DOT.

ACTION: Notice.

SUMMARY: In accordance with the Paperwork Reduction Act of 1995, the Bureau of Transportation Statistics (BTS) has requested approval from the Office of Management and Budget for an information collection, its Customer Satisfaction Surveys. BTS published a Federal Register notice asking for public comment on these surveys on February 7, 2000, but did not receive any comments in response.

DATES: You must submit your written comments by July 20, 2000.

ADDRESSES: Please send comments to both (1) the Office of Information and Regulatory Affairs (OIRA), OMB, 7251 7th Street, NW., Washington, DC 20503, attention: DOT Desk Officer; and (2) the Docket Clerk, Docket No. BTS-2000-6845, Department of Transportation, 400 Seventh Street, SW., Room PL-401, Washington, DC 20590, from 10:00 a.m. to 5:00 p.m., Monday through Friday, except federal holidays. Comments must include the OMB control number, 2139-0007.

You only need to submit one copy. If you would like the Department to acknowledge receipt of the comments, you must include a self-addressed stamped postcard with the following statement: Comments on Docket BTS-2000-6845. The Docket Clerk will date stamp the postcard and mail it back to you.

If you wish to file comments using the Internet, you may use the US DOT Dockets Management System website at http://dms.dot.gov. Please follow the instructions online for more information. This website can also be used to read comments received.

FOR FURTHER INFORMATION CONTACT: Tanya Guthrie, Office of Statistical Programs and Services, Bureau of Transportation Statistics, 400 Seventh Street, SW., Washington, DC 20590, telephone number 202/366-2087, email tanya.guthrie@bts.gov.

SUPPLEMENTARY INFORMATION: Title: Customer Satisfaction Surveys.

OMB Control Number: 2139-0007.

Type of Request: Extension of a currently approved collection.

Needs and Uses: To fulfill the requirements of this Executive Order 12862, Setting Customer Service Standards, the Bureau of Transportation Statistics (BTS) implemented plans and requirements for measuring customer satisfaction with BTS and Department of Transportation programs and services. As the statistical agency of the Department of Transportation, BTS is charged with fulfilling a wide variety of user needs. The diversity of BTS activities and customers demands a more inclusive and comprehensive approach to measuring customer service and monitoring and using customer feedback. BTS has implemented a wide range of customer satisfaction surveys. Information derived from the BTS customer satisfaction surveys will be used to (a) identify the customers who are, or should be, served by the agency; (b) survey customers to determine the kind and quality of services they want and their level of satisfaction with existing services; (c) post service standards and measure results against them; (d) benchmark customer service performance; (e) survey employees on barriers to, and ideas for, matching the best in business; (f) provide customers with choices in both the sources of service and the means of delivery; (g) make information, services, and complaint systems easily accessible; and (h) provide means to address customer complaints.

Description of Survey Topics: Since 1998, the BTS Customer Satisfaction Survey Program included the Product Evaluation Survey (PES), the Customer Satisfaction Survey (CSS), and the Omnibus Survey. The PES provides information on levels of customer satisfaction with various products, and the objective of the survey is to give BTS a better understanding of the technical preferences and information needs of specific users. The main objective of the CSS is to provide information about the overall satisfaction of BTS customers, the frequency of use of products and services, and specific information on how BTS is meeting various customer service criteria. Although the CSS addresses some product issues, such as format compatibility and difficulty of use, it is not the main objective of the survey. The Omnibus Survey focused on frequency of use of various modes within the transportation, satisfaction with highways, and satisfaction with transportation in the local community. Over the next three years, BTS will implement the Customer Satisfaction Survey and the Omnibus Survey Program. The Customer Satisfaction Survey will assess what customers think about the quality of products and services and how we might improve them to meet customer needs. The Omnibus Survey will assess satisfaction with the transportation system, and will target the DOT strategic goals of safety, mobility, economic growth, human and natural environment and national security.

Burden Statement: The total annual respondent burden estimate is 10,000 hours. The number of respondents and average burden hour per response will vary with each survey.

Public Comments Invited: BTS requests comments regarding any aspect of this information collection, including, but not limited to: (1) the necessity and utility of the information collection for the proper performance of the functions of the Bureau of Transportation Statistics; (2) the accuracy of the estimated burden; (3) ways to enhance the quality, utility, and clarity of the collected information; and (4) ways to minimize the collection burden without reducing the quality of the collected information, including the use of automated collection techniques or other forms of information technology.

Heather Contrino,
Surveys Program Manager.

[FR Doc. 00-15539 Filed 6-19-00; 8:45 am]

BILLING CODE 4910-FE-P